DEPARTMENT OF AGRICULTURE

Animal and Plant Health Inspection Service

[Docket No. APHIS-2011-0084]

Notice of Request for Reinstatement of an Information Collection; National Animal Health Monitoring System; Swine 2012 Study

AGENCY: Animal and Plant Health Inspection Service, USDA.

ACTION: Reinstatement of an information collection; comment request.

SUMMARY: In accordance with the Paperwork Reduction Act of 1995, this notice announces the Animal and Plant Health Inspection Service's intention to request a reinstatement of an information collection to support the National Animal Health Monitoring System's Swine 2012 Study.

DATES: We will consider all comments that we receive on or before October 24, 2011.

ADDRESSES: You may submit comments by either of the following methods:

• Federal eRulemaking Portal: Go to http://www.regulations.gov/#!documentDetail;D=APHIS-2011-0084-0001.

• Postal Mail/Commercial Delivery: Send your comment to Docket No. APHIS-2011-0084, Regulatory Analysis and Development, PPD, APHIS, Station 3A-03.8, 4700 River Road Unit 118, Riverdale, MD 20737-1238.

Supporting documents and any comments we receive on this docket may be viewed at http://www.regulations.gov/#!docketDetail;D=APHIS-2011-0084 or in our reading room, which is located in Room 1141 of the USDA South Building, 14th Street and Independence Avenue, SW., Washington, DC. Normal reading room hours are 8 a.m. to 4:30 p.m., Monday through Friday, except holidays. To be sure someone is there to help you, please call (202) 6902817 before coming.

FOR FURTHER INFORMATION CONTACT: For information on the Swine 2012 Study, contact Mr. Chris Quatrano, Industry Analyst, Centers for Epidemiology and Animal Health, VS, APHIS, 2150 Centre Avenue, Building B MS 2E6, Fort Collins, CO 80526; (970) 494-7207. For copies of more detailed information on the information collection, contact Mrs. Celeste Sickles, APHIS' Information Collection Coordinator, at (301) 851-2908.

SUPPLEMENTARY INFORMATION: Title: National Animal Health Monitoring System; Swine 2012 Study.

OMB Number: 0579-0315.

Type of Request: Reinstatement of an information collection.

Abstract: Under the Animal Health Protection Act (7 U.S.C. 8301 et seq.), the Animal and Plant Health Inspection Service (APHIS) of the United States Department of Agriculture (USDA) is authorized, among other things, to protect the health of our Nation's livestock and poultry populations by preventing the introduction and interstate spread of serious diseases and pests of livestock and for eradicating such diseases from the United States when feasible. In connection with this mission, APHIS would like to reinstate the Swine Study which will be used to:

• Describe current U.S. swine production practices including general management practices, housing practices, productivity, disease prevention, and mortality for five phases of production: gestation, farrowing, nursery, grow/finish, and wean-to-finish;

• Describe trends in swine health and management practices;

• Determine the prevalence and associated risk factors for select respiratory, neurologic, gastrointestinal, systemic, and food-borne pathogens found in weaned market hogs;

• Describe antibiotic usage patterns in weaned market hogs to control and treat disease and promote growth;

• Evaluate presence of or exposure to select pathogens and characterize isolated organisms from the collection of biological specimens; and

• Estimate the economic cost of a selected respiratory, neurologic, gastrointestinal, systemic, or food-borne pathogen found in commercial swine herds.

The Swine 2012 Study will consist of a screener questionnaire, several on-farm questionnaires, and biologic sampling. All of these activities will be administered by National Agricultural Statistics Service, USDA, designated data collectors. The information collected through the Swine 2012 Study will be analyzed and used to:

• Direct producer education;

• Identify research gaps;

• Facilitate education of future producers and veterinarians;

• Assess quality assurance programs; and

• Help with policy formation.

We are asking the Office of Management and Budget (OMB) to approve our use of this information collection activity for 2 years.

The purpose of this notice is to solicit comments from the public (as well as agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.4104183 hours per response.

Respondents: Swine producers.

Estimated annual number of respondents: 24,380.

Estimated annual number of responses per respondent: 1.

Estimated annual number of responses: 24,380.

Estimated total annual burden on respondents: 10,006 hours. (Due to averaging, the total annual burden hours may not equal the product of the annual number of responses multiplied by the reporting burden per response.)

All responses to this notice will be summarized and included in the request for OMB approval. All comments will also become a matter of public record.

Done in Washington, DC, this 17th day of August 2011.
Gregory L. Parham,
Administrator, Animal and Plant Health Inspection Service.

[FR Doc. 2011-21516 Filed 8-22-11; 8:45 am]

BILLING CODE 3410-34-P